DEPARTMENT OF ENERGY

Federal Energy Regulatory Commission

[Project No. 2009-018; North Carolina/Virginia]

Virginia Electric Power Company; Notice of Availability of Environmental Assessment

November 28, 2003.

In accordance with the National Environmental Policy Act of 1969 and the Federal Energy Regulatory Commission's (Commission) regulations, 18 CFR Part 380 (Order No. 486, 52 FR 47897), the Office of Energy Projects has reviewed the application for license for the Roanoke Rapids and Gaston Hydroelectric Project, located on the Roanoke River in Brunswick and Mecklenburg Counties, Virginia, and Halifax, Northampton and Warren Counties, North Carolina. The project occupies approximately 252 acres of federal land that is administered by the U.S. Army Corps of Engineers.

Commission staff has prepared an Environmental Assessment (EA) for the project. The EA contains the staff's analysis of the potential environmental impacts of the project and concludes that licensing the project, with appropriate environmental protective measures, would not constitute a major federal action that would significantly affect the quality of the human environment.

A copy of the EA is available for review at the Commission's Public Reference Room or may be viewed on the Commission's Web site at http://www.ferc.gov, using the “eLibrary” link. Enter the docket number, excluding the last three digits in the docket number field, to access the document. For assistance, contact FERC Online Support at FERCOnLineSupport@ferc.gov or call toll free at 1-866-208-3676, for TTY, contact 202-502-8659. Register online at http://www.ferc.gov/ esubscribenow.htm to be notified via e-mail of new filings and issuances related to this or other pending projects. For assistance, contact FERC Online Support.

Any comments (an original and 8 copies) should be filed within 30 days from the date of this notice and should be addressed to Magalie R. Salas, Secretary, Federal Energy Regulatory Commission, 888 First Street, NE., Washington, DC 20426. Comments may be filed electronically via the Internet in lieu of paper [see 18 CFR 385.2001(a)(1)(iii) and the instructions on the Commission's Web site under the “e-filing” link. For further information, contact Allan E. Creamer at (202) 502-8365 or allan.creamer@ferc.gov.

Linda Mitry,
Acting Secretary.

[FR Doc. E3-00452 Filed 12-3-03; 8:45 am]

BILLING CODE 6717-01-P